DEPARTMENT OF AGRICULTURE

Forest Service

Giant Sequoia National Monument Management Plan EIS

AGENCY: Forest Service, USDA.

ACTION: Notice of intent to prepare an Environmental Impact Statement.

SUMMARY: The Department of Agriculture, Forest Service is preparing an Environmental Impact Statement (EIS) to establish management direction for the land and resources within the Giant Sequoia National Monument (GSNM) created by Presidential Proclamation on April 15, 2000. The Forest Service, as the responsible agency, proposes to amend the 1988 Sequoia National Forest Land and Resource Management Plan (1988 Forest Plan) to provide for the protection of the objects of interest identified in the Proclamation.

DATES: Comments concerning the scope of the analysis must be received by May 4, 2009. The draft environmental impact statement is expected September 2009 and the final environmental impact statement is expected March 2010.

ADDRESSES: Send written comments to Marianne Emmendorfer, Project Leader, Sequoia National Forest Headquarters, 1839 South Newcomb Street, Porterville, CA 93257, and Attention: Monument Management Plan, or via facsimile to (559) 781-4744.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will become part of the public record for this proposed action. Comments submitted anonymously will be accepted and considered; however, anonymous comments will not provide the respondent with standing to participate in subsequent administrative review or judicial review.

FOR FURTHER INFORMATION CONTACT: Marianne Emmendorfer, Project Leader, Sequoia National Forest, at the address listed above. Her telephone number is 559-338-2251, extension 313. Information regarding the monument and the planning process can also be found on the Giant Sequoia National Monument Web site located at http://www.fs.fed.us/r5/sequoia/gsnm.

The Sequoia National Forest is using the Giant Sequoia National Monument Management Plan to pilot software from Limehouse Software™ that allows documents to be posted to a Web site for your review and comment. Please visit the Limehouse Software Web site http://gsnm-consult.limehouse.com/portal/ to enter comments electronically. Additional documents will be posted that are relevant to the management plan. When you visit the Web site, please register to access all the features of this Web site and to receive automatic notifications when documents are posted. A guided tour, showing how to use the site, is available, as well as help files, explaining how to use the Web site.

FOR FURTHER INFORMATION CONTACT: Individuals who use telecommunication devised for the deaf (TDD) may call the Federal Information Relay Service (FIRS) at 1-800-877-8339 between 8 a.m. and 8 p.m. Eastern Time, Monday through Friday.

SUPPLEMENTARY INFORMATION:

Background

On April 15, 2000, a Presidential Proclamation creating the Giant Sequoia National Monument was signed. The Proclamation designated 327,769 acres within the boundary of the Sequoia National Forest as a National Monument to provide protection for a variety of objects of historic and scientific interest, including giant sequoia trees and their surrounding ecosystem. The Proclamation required establishment of a monument management plan within three years, and establishment of a scientific advisory board to assist in development of this plan. A scientific advisory board was appointed, in consultation with the National Academy of Sciences, to provide scientific guidance during the development of the 2004 Giant Sequoia National Monument Management Plan Final Environmental Impact Statement (FEIS) and Record of Decision. A Giant Sequoia National Monument Management Plan Record of Decision was signed on January 12, 2004. The monument plan was challenged and litigation was filed in the United States District Court for the Northern District of California on January 27, 2005 (Sierra Club, et al., v. Bosworth, et al., No. C-05-00397 CRB) and March 3, 2005 (People of the State of California, ex rel. Lockyer v. United States Department of Agriculture, et al., No. C-05-00898 CRB). In October 2006, Federal District Court, Judge Charles Breyer, found in favor of the plaintiffs in both cases and remanded the Plan to the USDA Forest Service “* * * so that a proper Monument Plan can be developed in accordance with the Presidential Proclamation, * * * and in compliance with the National Environmental Policy Act (NEPA) * * *” Calif. ex rel. Lockyer v. USDA, No. C-05-00898 (N.D. Cal., Oct. 11, 2006).

There are a number of resources and direction that are applicable to the entire Sequoia National Forest that also need to be addressed in the Giant Sequoia National Monument management plan to some extent. The 2004 Giant Sequoia National Monument plan specified that it relied on the 2001 Sierra Nevada Forest Plan Amendment (SNFPA) FEIS and Record of Decision, due in part to the fact that the supplemental SNFPA EIS was being developed at the same time as the monument plan. However, the 2004 SNFPA contained updated scientific research regarding fire and fuels, and wildlife habitat information. This current analysis for the monument will rely on the most current scientific information available. Where applicable it may adopt existing direction from other sources including the 2004 SNFPA.

In addition, though California condors fit the description of “rare and endemic species” for which the monument was established, these birds have historically used portions of the Sequoia National Forest (SQF). Therefore, direction for condor habitat will be provided within the monument portion of the SQF in the management plan, with the knowledge that any updated management direction for condor habitat outside the Monument will be addressed in the Sequoia National Forest plan revision.

Mediated Settlement Agreement

The 1990 Mediated Settlement Agreement to the Sequoia National Forest Land Management Plan (MSA) states, “In the interim period between signing this Agreement and finalizing an amendment incorporating this Agreement into the Plan, the Parties agree that the provisions of this Agreement shall be implemented according to the schedules indicated throughout this document.” A review is currently being conducted to determine which of the provisions of the MSA have been incorporated into amendments to the 1988 Sequoia National Forest Land and Resource Management Plan. The preliminary review found that there are a number of provisions yet to be fully incorporated in amendments. Therefore, applicable provisions of the MSA will be addressed in the Giant Sequoia National Monument management plan environmental analysis.

Proclamation

The Proclamation stated, “Laws, regulations, and policies pertaining to administration by the Department of Agriculture of grazing permits and timber sales under contract as of the date of this proclamation on National Forest System lands within the boundaries of the Monument shall continue to apply to lands within the Monument. Nothing in this proclamation shall be deemed to affect existing special use authorizations; existing uses shall be governed by applicable laws, regulations, and management plans. Nothing in this proclamation shall be deemed to revoke any existing withdrawal, reservation, or appropriation; however, the national monument shall be the dominant reservation.” [Proclamation 7295, 65 FR 24095, 24098 (Apr. 25, 2000)].

In addition, the Proclamation stated, “Removal of trees, except for personal use fuel wood, from within the monument area may take place only if clearly needed for ecological restoration and maintenance or public safety.” (65 FR 24097). Public use in the Monument is defined as scientific research, interpretation and conservation education regarding natural and cultural resources, activities authorized under special use permits, recreation activities and current commodity uses (i.e., grazing, fuelwood cutting, etc.) under applicable laws, regulations and policies regarding their administration.

The Proclamation also stated, “The final decision to issue any management plans and any management rules and regulations rests with the Secretary of Agriculture. Management plans or rules and regulations developed by the Secretary of the Interior governing uses within national parks or other national monuments administered by the Secretary of the Interior shall not apply within the Giant Sequoia National Monument.” (65 FR 24098).

It is not within the purpose or authority of the Presidential Proclamation that established the Giant Sequoia National Monument to change existing:

• State jurisdiction over fish and game management;

• Water rights;

• Laws, policies and regulations pertaining to permits and projects under current contract;

• Special use authorizations; and

• Withdrawals, reservations, or appropriations except where the Proclamation specified, and that the Monument shall be the dominant reservation.

Scientific Advisory Board and Existing Advisories

The 2001 Presidential Proclamation required the Secretary of Agriculture to appoint a Scientific Advisory Board (SAB) to assist in developing the monument management plan. The board was convened as described above, and submitted 28 advisories during the planning process from 2002-2004.

Some of the advisories were specific to the draft EIS while others were more far reaching. As this new monument planning process was initiated, a number of people requested that a new SAB be convened. As a first step to determine whether a new SAB is necessary, the Forest Service offered a commenting opportunity on the existing scientific advisories concurrent with the commenting opportunity on the Proclamation from July through August 2008. Only those advisories that were not directed at the 2002 draft EIS were included. Several people commented on the advisories.

The Forest Supervisor determined that a number of the existing scientific advisories are still relevant for the new monument plan. She found the public comments on whether or how an additional Scientific Advisory Board would be empanelled merit further study.

Purpose and Need for Action

The Presidential Proclamation establishing the Giant Sequoia National Monument (Monument) required preparation of a management plan. The required plan will amend the existing 1988 Sequoia National Forest Land and Resource Management Plan (1988 Forest Plan) as amended by the 1991 Kings River Wild and Scenic River, and Special Management Area Implementation Plan and the 2001 Sierra Nevada Forest Plan Amendment (2001 SNFPA). The Proclamation focused on certain resources and uses in establishing the Monument so the proposed plan amendment will also focus on those areas in implementing the Proclamation.

The Monument Management Plan may also incorporate the management direction provided by the 1990 Sequoia National Forest Land Management Plan Mediated Settlement Agreement (MSA), and the 2004 Sierra Nevada Forest Plan Amendment Supplemental Environmental Impact Statement (2004 SNFPA SEIS), as applicable, and to the extent that direction is consistent with the Proclamation. Although the Monument plan environmental impact statement (EIS) must consider these other sources of direction, the plan is not constrained by the requirements prescribed in these documents. The plan will be informed by the best available science and will be based on a thorough review of relevant scientific information and practical experience, per the Proclamation and planning direction, resulting in a plan which could be substantially different from current management direction.

The purpose and need of this management plan is to establish management direction for the land and resources within the Giant Sequoia National Monument in order to protect the Objects of Interest (as described below), while providing key resources and opportunities for public use within the Monument. Although many valuable Objects of Interest are identified, it was also clear in the Proclamation that the major purpose of the monument is to protect and maintain the giant sequoia groves and the rare giants within their unique and natural habitat.

The Monument management plan will describe a long-term vision and the strategic management direction to guide management activities that move resources toward the desired conditions. This Monument plan will define the parameters (limits) for management activities, and offer the flexibility to adapt project-level decisions to accommodate rapidly changing resource conditions.

The Proclamation states that the monument plan shall:

Establish a transportation plan that provides for visitor enjoyment, and understanding about the scientific and historical objects consistent with their protection. (65 FR 24098).

The Proclamation did not specifically state, but implied the following needs in protecting Objects of Interest in the Monument:

(A) Provide for survival of mature and regeneration of young sequoias to assure the continued existence of this species. Consider the effects of disturbance and climate change on the regeneration, range and distribution of sequoias. (65 FR 24095).

(B) Restore the ecological processes and attributes that may be altered due to a century of fire suppression and large-scale logging, so that forest resiliency to large-scale wildfire and other potentially catastrophic events is improved (65 FR 24095-24096),

(C) Provide opportunities for scientific study of the Objects of Interest (such as biologists, geologists, paleontologists, archaeologists and historians) (65 FR 24095-24097).

The Objects of Interest were generally identified in the Proclamation, with the requirement that the management plan would provide direction for their proper care. Through public and agency dialogue the Objects of Interest have been determined to be a mix of specific individuals/locations (i.e. specific caverns or named sequoias) and broad ecosystem processes (i.e. sequoia groves and associated watersheds). The following are the Objects of Interest that will be considered for protection under this Giant Sequoia National Monument Management Plan:

• The ecosystems and outstanding landscapes within the Monument that surround the sequoia groves, including the interconnected vegetation types;

• The naturally occurring giant sequoia groves and associated ecosystems, rare giant trees, and other rare and endemic plant species including the Springville clarkia, etc.;

• The diverse array of rare animal species include the Pacific fisher, great gray owl, American marten, northern goshawk, peregrine falcon, California spotted owl, California condor, several rare amphibians and western pond turtle;

• The paleontological resources in the meadow sediments, giant sequoia tree rings, and other vegetation that have recorded the ecological changes including fire regimes, volcanism, vegetation and climate over the millennia;

• The limestone caverns and other geologic features including granite domes, spires, geothermally produced hot springs and soda springs, and the mix of glacial and river carved gorges;

• Cultural resources, both historic and prehistoric, provide a record of human adaptation to climate change and other influences, including land use patterns, in shaping ecosystems over the past 12,000 years.

The Presidential Proclamation creates a national monument recognizing and protecting forever its unique resources. The Proclamation also clearly identifies opportunities for scientific research, interpretation, recreation, and the need for a transportation plan. We are committed to preparing a management plan that is responsive to these needs and opportunities and that protects and restores the objects of interest as identified in the Proclamation.

Proposed Action

Desired Conditions and New Objectives

The desired conditions are broad, overarching descriptions of management goals and objectives to address the purpose and need to protect the Objects of Interest while providing key resources and opportunities for public use within the Monument. The 1988 Forest Plan and the 2001 SNFPA provide desired condition goals and objectives for a number of resources in the monument. Much of this direction is relevant for use in managing the Giant Sequoia National Monument. However, there is a subset of desired conditions and associated management direction that needs to be amended to manage the monument in accordance with the Proclamation.

In response to the Proclamation, the desired conditions discussed here are focused on the resources for which the Giant Sequoia National Monument Management Plan would amend or otherwise alter the current direction provided in the 1988 Forest Plan, as amended by the 2001 SNFPA. The desired conditions and associated management direction expected to be altered from current management direction includes:

• Shifts in vegetation management direction (management prescriptions), mainly regarding sequoias and oak habitat;

• Shifts in fuels management, mainly regarding sequoia groves;

• Provide resource management direction that is more responsive to new scientific data;

• Greater emphasis on paleontological and cave resources;

• Greater emphasis on selected cultural resource types and research questions;

• Greater emphasis on place-based recreation and public access; and

• Greater emphasis on partnerships and research opportunities.

The desired conditions and resultant monument management goals are governed by the 2000 Presidential Proclamation establishing the Giant Sequoia National Monument; and, as applicable, informed by the 1988 Forest Plan; the 1990 MSA; the applicable advisories from the Scientific Advisory Board; ¹ and the 2001 and/or 2004 SNFPA.

¹

Several advisories were specific to the 2002 Draft Environmental Impact Statement for the Giant Sequoia National Monument Management Plan and are therefore not necessarily applicable to this current Draft EIS.

The desired conditions are also informed by the public comments regarding the original 2004 Giant Sequoia National Monument Management Plan, and the commenting opportunity on the Presidential Proclamation and scientific advisories from July 2 through August 31, 2008.

The desired conditions are described in the context of protecting the Objects of Interest, and/or providing opportunities for public use.

A. Vegetation Including Sequoia Groves

The Proclamation stated that “No portion of the monument shall be considered to be suited for timber production, and no part of the monument shall be used in a calculation or provision of sustained yield of timber from the Sequoia National Forest.” (65 FR 24097). The desired conditions for vegetation within the Monument under the Proclamation will amend portions of the current direction for vegetation management. The 1988 Forest Plan provided two goals for timber resources: (1) Increase total timber (and wood fiber) supply where cost effective, and (2) maintain and enhance giant sequoias to increase recreation use and interpretive opportunities. The Monument plan will amend the first goal and its associated management prescriptions per Proclamation direction to remove the Monument from the timber land base. The second goal of the 1988 Forest Plan is consistent with the Proclamation's goal to “provide for and encourage continued public and recreational access and use consistent with the purposes of the monument.” (65 FR 24097) In addition, the 1988 Forest Plan provided specific management direction for giant sequoias, about which the 1990 MSA recommended several changes to establish grove boundaries and prevent logging in the groves to help preserve ² and protect ³ them.

²

Preserve is defined in terms of the sequoia groves by allowing ecological processes, or equivalents thereof, to maintain the dynamic of forest structure and function (Piirto and Rogers, An Ecological Foundation for Management of National Forest Giant Sequoia Ecosystems, 1999).

³

Protect is defined in terms of sequoia groves as protecting the naturally occurring goves from events that are contrary to or disruptive of natural ecological processes. Protect cultural artifacts, and ususual biological and physical features within groves from agents that could destroy them or accelerate their natural rate fo deterioration.

The desired condition for the monument vegetation is a variable distribution over space and time of a variety of species, sizes, and ages that are in balance with climate and other ecological conditions, which addresses the range of natural variability as determined by the best available science. The resultant combinations and ranges of ecosystem structures will provide a diverse habitat for biological Objects of Interest, recreation opportunities, and forest ecosystems able to regenerate and to survive drought, insects, disease, and large wildfires.

Objects of Interest are protected from large scale disturbances and vegetation type conversions. Under the Proclamation, “Removal of trees, except for personal use fuel wood, from within the Monument area may take place only if clearly needed for ecological restoration and maintenance or public safety.” (65 FR 24097). Consistent with this direction, the Forest will develop standards and guidelines to encourage forest stand disturbances at the appropriate scale and severity to meet other objectives such as safety, fuels, and wildlife management. The vegetation diversity may promote ladder fuels and down woody debris in one area, and giant sequoia regeneration and reduced fuels in another area.

More specifically, the desired conditions in giant sequoia groves will be a balance of forest disturbances, fuel loading, ladder fuels, and burn frequencies that will provide adequate conditions for sequoia regeneration. The desired habitat and processes will be adequate to protect some sequoia regeneration, most large sequoias, and all mature sequoias.

The 1990 MSA also recommended alterations to much of the grazing management direction for oak and chaparral vegetation areas. Portions of this direction have been included in the 2001 SNFPA direction for grazing in oak woodlands. However, there are still portions of the MSA direction regarding grazing management in oak and chaparral habitats that will be considered in the environmental analysis, and may be addressed in the monument plan.

The desired conditions of vegetation within oak grassland grazing allotments are healthy large oak trees capable of producing acorns and adequate regeneration and protection of oaks to assure long term survival of the species.

B. Fuels

Fire, whether natural or human caused, has been a key process in reducing the surface, ladder, and crown fuels that reduce susceptibility to the adverse effects of severe wildfires. Many ecosystems within and adjacent to the monument have excessive fuels accumulation due to years of fire exclusion. These fuels have built up at various rates depending on conditions and past treatments.

The existing direction under the 2001 SNFPA locates fuel treatments across broad landscapes that are linked to support one another so that the spread of wildland fire is interrupted and its intensity reduced. Continued use of these strategies in the Monument are intended to protect the resources including life, property, and sensitive resources, such as the giant sequoias, wildlife, cultural resources, and riparian areas. The 1990 MSA recommended fuels inventories and fuel load reduction plans for the groves, which will be considered in the development of alternatives and in the environmental analysis for the monument plan.

The desired condition for fuels in the Monument is to establish and maintain lower, manageable levels of flammable materials, especially at the surface and understory layers using frequent fire return intervals. Safer, manageable fuels are defined as those which pose low risk for large, catastrophic fires and include a highly diverse vegetation mosaic of age classes, tree sizes, and species composition. This will also contribute to protecting the objects of interest and will help maintain sustainable environmental, social, and economic benefits (i.e., effects to tourism).

Additional direction provided in the 2001 Sierra Nevada Forest Plan Amendment sets the highest priority for fuel reduction activities in the urban wildland intermix zone (WUI). These fuel reduction treatments are to protect human communities from wildland fires as well as minimize the spread of fires that might originate in urban areas. The goal is for fire suppression capabilities to be enhanced by modified fire behavior inside the zone (USDA Forest Service, January 2001, Record of Decision, page 9). The desired condition for WUI within the Monument would follow the 2001 SNFPA guidelines to focus fuel reduction treatments in developed areas within the WUI zones.

C. Habitat Management for Rare and Endemic Species

The GSNM and surrounding Sequoia National Forest provide habitat for a number of rare plant and animal species. The Proclamation states: “The great elevational range of the monument embraces a number of climatic zones, providing habitats for an extraordinary diversity of plant species and communities. The monument is rich in rare plants and is home to more than 200 plant species endemic to the southern Sierra Nevada mountain range.” The desired condition is that lands within the monument continue to provide a diverse range of habitats. Riparian areas, montane meadows, and late successional forest are areas of particular concern.

Lands within the GSNM account for nearly one quarter of the Southern Sierra Fisher Conservation Area designated under the 2001 SNFPA. The Southern Sierra Fisher Conservation Area is a mapped land allocation encompassing the known occupied range of the Pacific fisher in the Sierra Nevada. The Monument management plan may update or add to the management standards and guidelines based on current scientific research and modeling from the Conservation Biology Institute (CBI) and others regarding fishers.

Current management direction provided by the 2001 SNFPA for California spotted owl, northern goshawks and great gray owls will continue unaltered within the monument. The 2001 SNFPA designated standards and guidelines for conserving willow flycatchers and designated sites of emphasis habitats, based on consistent monitoring of known willow flycatcher sites. Five of these sites occur within the GSNM, though monitoring resulted in no willow flycatcher detections since regular monitoring began in 2001. The management direction provided by the 2001 SNFPA is expected to continue to be used in the monument.

The 2001 SNFPA was intended to provide regionally consistent direction to address aquatic, riparian, and meadow ecosystems identified as the most altered and impaired habitats in the Sierra Nevada. In addition, many aquatic and riparian-dependent species were found to be at risk of extirpation. Foothill and mountain yellow-legged frogs, several slender salamander species, and western pond turtles have suitable habitat in riparian areas in the monument. The Aquatic Management Strategy (AMS) for the 2001 SNFPA established Riparian Conservation Objectives for Riparian Conservation Areas (RCAs) and Critical Aquatic Refuges (CARs). Portions of four CARs are located within the GSNM. The management direction provided by the 2001 SNFPA is expected to continue to be used in the monument.

The 1988 Forest Plan and 1990 MSA provide direction for the management of the California condor. Forest Plan direction specifies that management is to be congruent with the California Condor Recovery Plan, and identifies several historic use areas that are to be managed for the benefit and protection of the condor. These include the Starvation Grove historic nest site and the Lion Ridge roost area. The MSA recommended designating Wildlife Habitat Management Areas and other guidance, which will be considered in the development of alternatives and in the environmental analysis for the monument plan.

D. Watershed Resources

The 2001 SNFPA amended the 1988 Forest Plan and provided direction on management of watersheds. The 1990 MSA also includes direction for watershed management including establishing Streamside Management Zones. The recommended management direction from the 1990 MSA regarding watershed resources will be considered in the development of alternatives and in the environmental analysis for the monument plan.

The desired condition is for hydrologic functions to operate in a natural role within watersheds while resource management activities sustain human needs and uses in the monument. Restoration of ecological process is promoted through repair of previously harmed areas, and fostering a return to natural conditions wherever possible.

E. Geological and Soil Resources

The Proclamation describes caves and other special geologic resources as: “The monument is dominated by granitic rocks, most noticeably as domes and spires in areas such as the Needles. The magnificent Kern Canyon forms the eastern boundary of the monument's southern unit * * * Particularly in the northern unit of the monument, limestone outcrops, remnants of an ancient seabed, are noted for their caves.”

The desired condition is for ecological functions to operate in a natural role across geologic features of the Monument while resource management activities sustain human needs and uses. Geologic resource management may be focused on (1) geologic features (caves, domes, hot springs, etc.), (2) designating geological special interest areas (caves, hot springs, etc.), (3) identifying and minimizing potential geologic hazards, (4) maintaining groundwater, (5) protecting paleontological resources, and (6) management of mineral resources, “lands within the boundaries of this monument are hereby appropriated and withdrawn from entry, location, selection, sale, leasing, or other disposition under the public land laws including, but not limited to, withdrawal from locating, entry, and patent under the mining laws and from disposition under all laws relating to mineral and geothermal leasing.” (Proclamation 7295, Federal Register, Vol. 65, No. 80, 4/25/2000, p. 24097). The Proclamation removed the Monument lands from new mineral extraction so the Monument plan will amend the Forest Plan to reflect this direction.

In addition, the 1990 MSA recommended direction regarding soil quality standards and associated monitoring. The 2001 SNFPA incorporated the Pacific Southwest Regional Soil Quality management direction into the amendment. Whether the 2001 SNFPA adequately addressed the 1990 MSA recommendations has yet to be determined.

F. Paleontological Resources

According to the Proclamation, the Monument holds unique paleontological resources (i.e., life of past geologic periods found in the fossil record of plants and animals) documenting tens of thousands of years of ecosystem change. The Proclamation goes on to state, “Subfossil vegetation entombed within ancient woodrat middens in these caves has provided the only direct evidence of where giant sequoias grew during the Pleistocene era, and documents substantial vegetation changes over the last 50,000 or more years. Vertebrate fossils also have been found within the middens.” In addition, giant sequoias hold within their tree rings multi-millennial records of past environmental changes such as climate, fire regimes, and consequent forest response. The desired condition is to manage the paleontological resources to retain the components providing the fossil record throughout the monument.

G. Cultural Resources

The Proclamation states: “During the past 8,000 years, Native American peoples of the Sierra Nevada have lived by hunting and fishing, gathering, and trading with other people throughout the region. Archaeological sites such as lithic scatters, food-processing sites, rock shelters, village sites, petroglyphs, and pictographs are found in the monument. These sites have the potential to shed light on the roles of prehistoric peoples, including the role they played in shaping the ecosystems on which they depended” and “One of the earliest recorded references to giant sequoias is found in the notes of the Walker Expedition of 1833, which described “trees of the redwood species, incredibly large * * *.” The world became aware of giant sequoias when sections of the massive trees were transported east and displayed as curiosities for eastern audiences. The 1988 Forest Plan and several laws direct the management and protection measures for cultural resources.

The monument currently has over 900 recorded archaeological sites. These sites are the physical remains of human occupation over the last 9,000 years and range from small-scale obsidian flake scatters to large-scale complex Native American village sites occupied for thousands of years. Historic sites chronicle some of the earliest Euro-American exploration, settlement, and development of the southern Sierra Nevada. Cultural resources provide information about the past that was never written down. A greater understanding of these resources can lead to a greater understanding of human environmental interactions. These interactions include how humans reacted to large-scale climate change; how humans manipulated vegetation on the smaller scale of food and material use by individual families, and on the larger scale of Native American burning and Euro-American logging. Cultural resources provide physical evidence of human land use patterns and can provide a greater understanding of culture change.

In addition to the physical remains, the oral histories, ethnographic studies, and continuation of traditional practices contribute to our understanding of people who have both new and long-term cultural connections to the Monument. The preservation and interpretation of cultural resources not only provides opportunities for visitors to explore, enjoy, and learn about the diversity of cultures that have lived in and visited the Monument; but also their own cultural heritage. The desired condition for the Monument is to place greater management emphasis on the rich cultural resources through protection, research, and public education.

H. Human Use and Socioeconomics

The Proclamation describes human use of the Monument as follows: “The plan will provide for and encourage continued public and recreational access and use consistent with the purposes of the monument.” People of all ages, races and backgrounds, whether from local, rural or metropolitan communities would be encouraged to learn about and visit the Monument. The Monument would serve as a foundation of our commonality and interdependence.

The Monument will be managed cost effectively. Research would be conducted regarding human use and socioeconomics. As the Scientific Advisory Board recommended: “The Plan should take into account substantial increases in visitor use and exploit opportunities for collaboration with nearby communities and businesses plus the National Park[s] * * * [It] needs to include a plan to develop good quantitative and qualitative information on visitor use, activities undertaken, and enjoyment of proposed interpretive programs and facilities to comply with the Presidential Proclamation (Advisories XVII and XIX).”

Demand for more specialized recreation (often provided by outfitters and guides, such as mountain biking and rock climbing) is increasing and the diversity of specialized recreation is increasingly broad. Regional population growth is expected to lead to greater demand for existing and emerging recreation opportunities. Projected population growth in the United States and increasing tourism in this region, along with other factors, clearly contribute to increasing demand for recreation facilities and services throughout the Sierra Nevada, specifically in the monument.

Existing direction from the 1988 Forest Plan and 2001 SNFPA encourage diverse public access and use of the area in a safe manner. Management direction is in place to protect communities (including those within the monument) from wildfires, and to encourage economic opportunities for the gateway communities and communities in the Monument.

Interpretation and conservation education reflect scientifically-supported scholarship and research data, conveying clear messages regarding natural and cultural resources and multiple use. The unique qualities of the monument pique people's interest throughout the world. The monument not only provides a rich opportunity to connect people to the giant sequoias and monument, but also to the earth as a whole. The monument management plan has the potential, through the use of multi-media interpretation and educational programs, to develop stewardship of the resource, to ensure its present and future protection and to enhance public enjoyment of this unique place. Awareness of the history of the Monument, appreciation for its biological processes, learning about the people who used and continue to use the monument, and education about disruptive forces are all distinctive, yet interrelated pieces that should be integrated into the overall approach to use of the resource.

The 1988 Forest Plan and 2001 SNFPA provide management direction to be well-balanced with a wide variety of recreational activities in a well-managed environment, promoting appreciation of the opportunities and harmony among users. Current direction recommends that visitors will find a rich and varied range of recreational, educational, and social opportunities enhanced by giant sequoias and the surrounding ecosystems. Current direction also recommends that visitors will have the opportunity to recreate in a variety of settings, from primitive to highly developed areas. The 1988 Forest Plan also provides direction for public enjoyment to handle conflicts that do arise with timeliness and equilibrium, and to provide consistent and easy-to-read signage, and informational materials. Current management direction also promotes recreation use throughout the year.

The desired condition for the Monument is to further emphasize the existing management direction to provide wide and varied public use of monument resources and opportunities while protecting the sensitive resources and Objects of Interest. Within the Monument there would be more emphasis on establishing partnerships, providing people with a connection to place, and promoting a sense of stewardship. These partnerships would provide a wide spectrum of recreation experiences through a wide variety of providers, including the Forest Service, partners, permit holders, volunteers and other community entities. Partnerships would be developed to increase interpretive materials and programs for reaching larger segments of the general public and for educating the “citizen steward.” Management partnerships will continue with those tribes whose ecosystems and watershed are affected by activities that occur on National Forest System lands, as well as with those Native Americans without a land base who have the need, through the practice of their culture, for National Forest System lands.

The 1988 Forest Plan used some evaluation tools that have changed over time. The Visual Management System has changed to the Scenery Management System (SMS). The 1990 MSA recommended a number of changes to the Visual Quality Objectives, which will be considered during the evaluation under the SMS.

The MSA had several requirements for off-highway vehicle and other trail use, which may be affected by the Travel Management Rule (36 CFR Parts 212, 251, and 261: Travel Management; Land Uses; and Prohibitions;), and is clearly altered by the Proclamation (Proclamation 7295, Federal Register, Vol. 65, No. 80, 4/25/2000, p. 24098). How the Monument plan will amend the Forest Plan to clarify recreational road and trail use will be identified during the environmental analysis.

There are two proposals from the 1988 Forest Plan that will not be carried forward within the monument: Creation of downhill ski areas at Peppermint on the Western Divide Ranger District, or Mitchell-Maddox on the Hume Lake Ranger District.

There are no new objectives proposed at this time for Human Use, Socioeconomics, or Dispersed and Developed Recreation. All the suggested changes are to provide more focused guidelines to emphasize diverse public access, partnerships and place-based recreation opportunities.

I. Transportation System

The Proclamation tells us: “The management plan shall contain a transportation plan for the monument that provides for visitor enjoyment and understanding about the scientific and historic objects in the monument, consistent with their protection. For the purposes of protecting the objects included in the monument, motorized vehicle use will be permitted only on designated roads, and non-motorized mechanized vehicle use will be permitted only on designated roads and trails, except for emergency or authorized administrative purposes or to provide access for persons with disabilities. No new roads or trails will be authorized within the monument except to further the purposes of the monument.”

The desired condition is that the road and trail system on the Monument protects the Objects of Interest, is safe, reflects appropriate access, considers the needs of other landowners, and meets public demand.

The existing management direction in the 1988 Forest Plan and the Travel Management Rule provides for a road system that is commensurate with the level of management activities occurring in the Monument, providing appropriate access to the objects of interest for their proper care, protection, and management. Public use, related to recreation, special use authorizations, and private land access, is an important, but secondary need and does not conflict with the proper care, protection, and management of the Objects of Interest. Current management direction requires that the road and trail system be sized and maintained to limit impacts to aquatic and terrestrial habitats. The Proclamation altered a portion of the existing direction by limiting motorized, mechanized vehicles to designated roads. The Monument will emphasize developing access points in coordination with gateway communities and other agencies to provide clear, welcoming entry into the Monument. The monument plan may also focus greater emphasis on providing access to the Objects of Interest, and providing more opportunities for traveling on loop trails or roads.

J. Scientific Study

The Proclamation describes the promise of science as follows: “The rich and varied landscape of the Giant Sequoia National Monument holds a diverse array of scientific and historic resources * * *. The monument provides exemplary opportunities for biologists, geologists, paleontologists, archaeologists, and historians to study these objects * * *. These giant sequoia groves and the surrounding forest provide an excellent opportunity to understand the consequences of different approaches to forest restoration * * *. Outstanding opportunities exist for studying the consequences of different approaches to mitigating these conditions and restoring natural forest resilience * * *. Outstanding opportunities exist for studying forest resilience to large-scale logging and the consequences of different approaches to forest restoration.”

Under the 2001 SNFPA, the current direction is to use adaptive management. As stated in the 2001 SNFPA ROD (p.15), “Adaptive management will allow the Forest Service to test new and innovative management techniques as part of formal research projects * * * allow for variances from the standards and guidelines in Appendix A to test hypotheses in a scientifically structured manner. Projects that seek variances from the standards and guidelines will be permitted if they are part of a formal adaptive management research project or administrative study done in conjunction with the Pacific Southwest Research Station or another recognized scientific research institution * * *. Investment in * * * adaptive management projects will allow us to gain more knowledge and adjust future management techniques based on that knowledge.”

The desired condition is to use the right balance between adaptability and accountability, being realistic about the Forest Service's monitoring and re-analysis capabilities. The desired condition is also to use the best available science in data, methodologies, and structure, specifically, to integrate various decision support systems.

The current direction to use adaptive management will be analyzed to determine whether to amend the direction for adaptive management in the Monument. The Monument plan would maintain options by continuing on-going cooperation, and develop additional joint research efforts with the scientific community, and cooperating agencies, to adaptively manage resources to continue to learn and refine approaches.

Possible Alternatives

Other alternatives will be developed based on significant issues identified during the scoping process for the environmental impact statement. All alternatives will need to address the purpose and need as described above, which reflects the 2000 Presidential Proclamation establishing Giant Sequoia National Monument. Alternatives being considered at this time include: (1) No Action, (2) Proposed Action, and other alternatives identified following scoping.

Responsible Official

Tina Terrell, Forest Supervisor, Sequoia National Forest, is the Responsible Official. As the Responsible Official, she will document the decision and reasons for the decision in the Record of Decision. That decision will be subject to Forest Service appeal regulations (36 CFR part 217).

Nature of Decision To Be Made

The decision to be made is whether to amend the 1988 Sequoia National Forest Land and Resource Management Plan as described in the proposed action to manage the Giant Sequoia National Monument, develop an alternative amendment that addresses the purpose and need, and responds to significant issues; or continue to manage the Giant Sequoia National Monument under the 1988 Forest Plan, as amended by the 2001 Sierra Nevada Forest Plan Amendment, and consistent with the Presidential Proclamation.

Scoping Process

The notice of intent initiates the scoping process, which guides the development of the environmental impact statement. Scoping began on this project in January 2008, and this notice extends the scoping period for the new Giant Sequoia National Monument Management Plan environmental impact statement.

It is important that reviewers provide their comments at such times and in such manner that they are useful to the agency's preparation of the environmental impact statement. Therefore, comments should be provided prior the close of the comment period and should clearly articulate the reviewers concerns and contentions. The submission of timely and specific comments can affect a reviewer's ability to participate in subsequent administrative appeal or judicial review.

Dated: March 12, 2009.
Tina J. Terrell,
Forest Supervisor, Sequoia National Forest, USDA Forest Service.

[FR Doc. E9-5809 Filed 3-17-09; 8:45 am]

BILLING CODE 3410-11-P